DEPARTMENT OF TRANSPORTATION

Federal Aviation Administration

14 CFR Part 39

[Docket No. FAA-2019-0258; Product Identifier 2018-NM-134-AD; Amendment 39-19783; AD 2019-22-04]

RIN 2120-AA64

Airworthiness Directives; Airbus SAS Airplanes

AGENCY: Federal Aviation Administration (FAA), Department of Transportation (DOT).

ACTION: Final rule.

SUMMARY: The FAA is superseding Airworthiness Directive (AD) 96-25-04, which applied to certain Airbus SAS Model A320 series airplanes. AD 96-25-04 required repetitive inspections of the wire looms in the wing and the horizontal stabilizer and in certain areas of the main landing gear (MLG) bays; repair or replacement, protection, and realignment, if necessary; installation of protective sleeves; and realignment of certain bundles. This AD partially retains the requirements of AD 96-25-04 and requires modification of the wing electrical installation; as specified in a European Aviation Safety Agency (EASA) AD, which is incorporated by reference. This AD was prompted by a determination that there were issues with protective sleeves previously installed as specified in AD 96-25-04. The FAA is issuing this AD to address the unsafe condition on these products.

DATES: This AD is effective December 24, 2019.

The Director of the Federal Register approved the incorporation by reference of a certain publication listed in this AD as of December 24, 2019.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0258.

Examining the AD Docket

You may examine the AD docket on the internet at https://www.regulations.gov by searching for and locating Docket No. FAA-2019-0258; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

The EASA, which is the Technical Agent for the Member States of the European Union, has issued EASA AD 2018-0200, dated September 6, 2018 (“EASA AD 2018-0200”) (also referred to as the Mandatory Continuing Airworthiness Information, or “the MCAI”), to correct an unsafe condition for certain Airbus SAS Model A320-211, -212, and -231 airplanes. EASA AD 2018-0200 supersedes Direction Générale de l'Aviation Civile (DGAC) AD 91-182-020(B) R2, dated December 7, 1994 (which corresponds to FAA AD 96-25-04, Amendment 39-9846 (61 FR 66881, December 19, 1996) (“AD 96-25-04”)).

The FAA issued a notice of proposed rulemaking (NPRM) to amend 14 CFR part 39 to supersede AD 96-25-04. AD 96-25-04 applied to certain Airbus SAS Model A320 series airplanes. The NPRM published in the Federal Register on May 7, 2019 (84 FR 19885). The NPRM was prompted by a determination that there were issues with protective sleeves previously installed as specified in AD 96-25-04. The NPRM proposed to partially retain the requirements of AD 96-25-04 and require modification of the wing electrical installation. The FAA is issuing this AD to address electrical short circuiting due to chafing of the wire bundles in the wing, horizontal stabilizer, or MLG bay, which could result in a fire.

Comments

The FAA gave the public the opportunity to participate in developing this final rule. The following presents the comments received on the NPRM and the FAA's response to each comment. Air Line Pilots Association, International (ALPA) indicated its support for the NPRM.

Request To Clarify and Provide Procedures for Previously Installed Sleeves

Delta Air Lines (Delta) requested clarification and further provisioning to address previously installed protective sleeves that are identified as having issues in the NPRM and EASA AD 2018-0200. Delta requested that the FAA explain the issue with the previously installed protective sleeves and specify corrective action referring to the previous requirements of AD 96-25-04. Delta stated that the instructions in Airbus Service Bulletin A320-92-1115, Revision 01, dated August 14, 2018, and EASA AD 2018-0200 do not identify procedures for removal of previously installed protective sleeves and do not explain the deficiency with those sleeves.

The FAA agrees to clarify. Airbus Service Bulletin A320-92-1115, Revision 01, dated August 14, 2018, does include instructions for removing the previously installed heat shrink tubing (wire loom protection) prior to installation of new wire loom protection. Airbus Service Bulletin A320-92-1115, Revision 01, dated August 14, 2018, also states the unsafe condition associated with previously installed wire loom protection, which allowed the wire loom to be held in contact with the edge of harness breakout from conduits on wing trailing edge harnesses. Subsequent vibration initiated chafing and the eventual short circuit.

The new modification requirement in this AD introduces a full-length protective sleeve to protect the wire looms at harness breakout from conduits on wing trailing edge harnesses in Zone 574 and Zone 674. As specified in paragraph (13) of EASA AD 2018-0200, doing the new modification terminates inspections required by paragraph (1) of EASA AD 2018-0200 (which retains the requirements that correspond to paragraph (c) of AD 96-25-04). The AD has not been changed in this regard.

Request To Revise the Applicability

Delta requested the applicability of the proposed AD be changed to only include airplanes produced with the unsafe condition. Delta noted that the applicability exception statement (i.e., except those on which Airbus modification (mod) 22626 has been embodied in production) means the proposed AD would be applicable to any future production airplanes if mod 22626 is not embodied. Delta stated that it assumed the certification basis of new aircraft would address this unsafe condition either through mod 22626 or other mods or design features that would address the unsafe condition.

The FAA agrees to clarify. As specified in EASA AD 2018-0200, the AD is applicable to Airbus SAS Model A320-211, A320-212 and A320-231 airplanes, all manufacturer serial numbers except those on which Airbus modification 22626 has been installed in production. The intent for airplanes modified in production via modification 22626 is that they will not be de-modified and therefore the unsafe condition will not apply. The AD is not applicable if production modification 22626 is installed; however, it is the responsibility of operators to maintain that modification in accordance with the type design requirements of the airplane. The AD has not been changed in this regard.

Request To Clarify if Another AD Is Affected

Delta requested clarification on whether the proposed AD might affect AD 2016-19-02, Amendment 39-18651 (81 FR 64051, September 19, 2016) (“AD 2016-19-02”). Delta raised concerns over the risk to inadvertently de-modify the impacted airplanes identified in EASA AD 2018-0200 and therefore no longer be in compliance with AD 2016-19-02. Delta stated that due to the proximity of the modifications specified in Airbus Service Bulletin A320-92-1049, Revision 01, dated November 28, 2011 (referred to in AD 2016-19-02) and Airbus Service Bulletin A320-92-1115, Revision 01, dated August 14, 2018 (referred to in EASA AD 2018-0200) there is potential for de-modification of an AD requirement.

The FAA agrees to clarify. The modifications specified in Airbus Service Bulletin A320-92-1049, Revision 01, dated November 28, 2011 (required by paragraph (h)(1) of AD 2016-19-02); and Airbus Service Bulletin A320-92-1115, Revision 01, dated August 14, 2018 (required by paragraphs (7) through (9) of EASA AD 2018-0200), are in close proximity, but the risk to inadvertently de-modify the airplane is small. There is clearance between the protective sleeve installed using Airbus Service Bulletin A320-92-1049, Revision 01, dated November 28, 2011, and the insert (protective sleeve) installed using Airbus Service Bulletin A320-92-1115, Revision 01, dated August 14, 2018. In addition, Airbus Service Bulletin A320-92-1115, Revision 01, dated August 14, 2018, does not include procedures to remove the protective sleeve installed using Airbus Service Bulletin A320-92-1049, Revision 01, dated November 28, 2011. The AD has not been changed in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2018-0200 describes procedures for repetitive inspections to detect chafing, signs of overheating, and misalignment of the wire looms (bundles) in the wing and the horizontal stabilizer and in certain areas of the MLG bays; repair or replacement, protection, and realignment, if necessary; realignment of bundles that are not guided centrally into the conduit end fittings; and modification of the wing electrical installation.

This material is reasonably available because the interested parties have access to it through their normal course of business or by the means identified in the ADDRESSES section.

Costs of Compliance

The FAA estimates that this AD affects 27 airplanes of U.S. registry. The FAA estimates the following costs to comply with this AD:

Estimated Costs for Required Actions
Action | Labor cost | Parts cost | Cost per product | Cost on U.S. operators
Retained actions from AD 96-25-04 | 62 work-hours × $85 per hour = $5,270 | Negligible | $5,270 | $142,290
New actions | 25 work-hours × $85 per hour = $2,125 | (*) | * 2,125 | * 57,375
* The FAA has received no definitive data on the parts costs for the new actions.

The FAA has received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 96-25-04, Amendment 39-9846 (61 FR 66881, December 19, 1996), and adding the following new AD:

2019-22-04 Airbus SAS: Amendment 39-19783; Docket No. FAA-2019-0258; Product Identifier 2018-NM-134-AD.

(a) Effective Date

This AD is effective December 24, 2019.

(b) Affected ADs

This AD replaces AD 96-25-04, Amendment 39-9846 (61 FR 66881, December 19, 1996) (“AD 96-25-04”).

(c) Applicability

This AD applies to Airbus SAS Model A320-211, -212, and -231 airplanes, certificated in any category, as identified in European Aviation Safety Agency (EASA) AD 2018-0200, dated September 6, 2018 (“EASA AD 2018-0200”).

(d) Subject

Air Transport Association (ATA) of America Code 24, Electrical power.

(e) Reason

This AD was prompted by a report that electrical short-circuiting could occur in the wire bundles in the wing, horizontal stabilizer, or main landing gear (MLG) bays. This AD was also prompted by a determination that there were issues with protective sleeves previously installed as specified in AD 96-25-04. The FAA is issuing this AD to address electrical short circuiting due to chafing of the wire bundles in the wing, horizontal stabilizer, or MLG bay, which could result in a fire.

(f) Compliance

Comply with this AD within the compliance times specified, unless already done.

(g) Requirements

Except as specified in paragraph (h) of this AD: Comply with all required actions and compliance times specified in, and in accordance with, EASA AD 2018-0200.

(h) Exceptions to EASA AD 2018-0200

(1) Where EASA AD 2018-0200 refers to its effective date, this AD requires using the effective date of this AD.

(2) Where EASA AD 2018-0200 refers to “the effective date of DGAC France AD 91-182-020 at original issue” or refers to “the effective date of DGAC France AD 91-182-020 at Rev.2,” this AD requires using January 27, 1997 (the effective date of AD 96-25-04).

(3) The “Remarks” section of EASA AD 2018-0200 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0200 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Sanjay Ralhan, Aerospace Engineer, International Section, Transport Standards Branch, FAA, 2200 South 216th St., Des Moines, WA 98198; telephone and fax 206-231-3223.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 24, 2019.

(i) European Aviation Safety Agency (EASA) AD 2018-0200, dated September 6, 2018.

(ii) [Reserved]

(4) For information about EASA AD 2018-0200, contact the EASA, Konrad-Adenauer-Ufer 3, 50668 Cologne, Germany; telephone +49 221 89990 6017; email ADs@easa.europa.eu; Internet www.easa.europa.eu. You may find this EASA AD on the EASA website at https://ad.easa.europa.eu.

(5) You may view this material at the FAA, Transport Standards Branch, 2200 South 216th St., Des Moines, WA. For information on the availability of this material at the FAA, call 206-231-3195. This material may be found in the AD docket on the internet at https://www.regulations.gov by searching for and locating Docket No. FAA-2019-0258.

(6) You may view this material that is incorporated by reference at the National Archives and Records Administration (NARA). For information on the availability of this material at NARA, email fedreg.legal@nara.gov, or go to: https://www.archives.gov/federal-register/cfr/ibr-locations.html.

>

Issued in Des Moines, Washington, on November 5, 2019.
Michael Kaszycki,
Acting Director, System Oversight Division, Aircraft Certification Service.

[FR Doc. 2019-24995 Filed 11-18-19; 8:45 am]

BILLING CODE 4910-13-P